DEPARTMENT OF THE TREASURY

Bureau of Alcohol, Tobacco and Firearms

27 CFR Part 9

[Notice No. 951; Re: Notice No. 903]

RIN 1512-AC83

Denial of the California Coast Viticultural Area Petition (2000R-166P)

AGENCY: Bureau of Alcohol, Tobacco and Firearms (ATF), Treasury.

ACTION: Termination of proposed rulemaking; denial of petition.

SUMMARY: The Bureau of Alcohol, Tobacco and Firearms (ATF) announces the denial of the petition requesting establishment of the “California Coast” viticultural area and the termination of the related proposed rulemaking (Notice No. 903 of September 26, 2000, 65 FR 57763). ATF has concluded the petitioned viticultural area fails to meet the regulatory requirements issued under the authority of the Federal Alcohol Administration Act. ATF also announces that a supplemental report, “ATF Response to the California Coast Viticultural Area Petition,” detailing the reasons for the petition's denial is available on the ATF website or by U.S. mail as described below.

ADDRESSES: A copy of this notice (Notice No. 951) and a link to the 80-page supplemental report, “ATF Response to the California Coast Viticultural Area Petition,” detailing the reasons for the petition's denial, are available on the ATF website at: http://www.atf.treas.gov/alcohol/rules/index.htm.

Paper copies of the petition, the proposed regulation, the appropriate maps, the comments received in response to Notice No. 903, this notice (Notice No. 951), and the supplemental report are available for public inspection by appointment in the ATF Reading Room, Rm. 6480, 650 Massachusetts Avenue, NW., Washington, DC 20226; telephone (202) 927-7890.

To obtain paper copies of the supplemental report, the comments received, or any other of the above documents by mail (at 20 cents per page), contact the ATF Librarian at the above address.

FOR FURTHER INFORMATION CONTACT: Nancy Sutton, Specialist, Regulations Division (San Francisco, CA), Bureau of Alcohol, Tobacco and Firearms, 221 Main Street, 11th Floor, San Francisco, CA 94105; telephone (415) 947-5192.

SUPPLEMENTARY INFORMATION:

Background—Viticultural Areas

The Federal Alcohol Administration Act (FAA Act) at 27 U.S.C. 205(e) requires that alcohol beverage labels provide the consumer with adequate information regarding a product's identity and prohibits the use of deceptive information on such labels. The FAA Act also authorizes the Bureau of Alcohol, Tobacco and Firearms (ATF) to issue regulations to carry out its provisions.

Regulations in 27 CFR part 4, Labeling and Advertising of Wine, allow the establishment of definitive viticultural areas. The regulations allow the names of approved viticultural areas to be used as appellations of origin on wine labels and in wine advertisements. Section 4.25a(e)(1) defines an American viticultural area as a delimited grape-growing region distinguishable from surrounding areas by geographical features such as climate, elevation, soil, and topography.

ATF believes that viticultural area designations enable consumers to better identify the origin of the grapes used to produce a wine, provide significant information about the identity of a wine, and prevent consumer deception through the establishment of specific boundaries for viticultural areas. A list of approved viticultural areas is contained in 27 CFR part 9, American Viticultural Areas.

Any interested person may petition ATF to establish a grape-growing region as a viticultural area. The petition should include a description of area's proposed boundaries and United States Geological Survey maps with those boundaries prominently marked, as well as:

• Evidence that the name of the proposed viticultural area is locally and/or nationally known as referring to the area specified in the petition;

• Historical or current evidence that the boundaries of the viticultural area are as specified in the petition; and

• Evidence relating to the geographical characteristics (climate, soil, elevation, physical features, etc.), which distinguish the viticultural features of the proposed area from surrounding areas.

The petitioner bears the burden of providing evidence showing that a proposed viticultural area meets the regulatory requirements. ATF utilizes the proposed rulemaking process to facilitate the submission of additional information from the public showing that the proposed area does or does not comply with the regulatory requirements.

Background—California Coast Petition

1998 “California Coastal” Petition

In 1998, a group known as the Coastal Alliance submitted a petition to ATF requesting the establishment of the “California Coastal” viticultural area. The petitioned area's boundaries, extending along the California coastline north from Mexico into Mendocino County 175 miles south of the Oregon border, coincided with the established South Coast viticultural area's southern boundary and with the North Coast viticultural area's northern boundary.

ATF reviewed the petition and determined that the petitioned viticultural area did not meet the regulatory requirements. In the letter denying this petition, ATF noted that the “California Coastal” name could apply to the State's entire coastline and not just to the portion included in the petitioned area. ATF also determined that the petitioned viticultural area's geographic and climatic features were too diverse for it to be considered a delimited grape-growing region distinguishable from surrounding areas.

March 2000 “California Coast” Petition

The California Coast Alliance submitted a new petition to ATF on March 17, 2000, proposing the establishment of the “California Coast” viticultural area. The Alliance stated that the California Coast viticultural area would provide consumers with valuable information about the origin of wine made in this area and help prevent consumer deception from the growing use of references to the California coast and coastal areas on wine labels.

The proposed California Coast viticultural area covered 22,000 square miles and spanned 650 miles along the Pacific coast, from the Mexican border north into Mendocino County in northern California, 175 miles south of the Oregon border. The petitioned area's inland width varied from approximately 5 to 68 miles. The petition's proposed boundary lines joined the established South Coast, Central Coast, San Francisco Bay, and North Coast viticultural areas and filled in the gaps between those established areas. The petitioned area included a total of 68 smaller, established viticultural areas.

Notice No. 903 and Resulting Comments

On September 26, 2000, ATF published a Notice of Proposed Rulemaking, Notice No. 903, in the Federal Register (65 FR 57763) soliciting public comments regarding the proposed California Coast viticultural area. In response to that notice, ATF received 477 comments from vineyard and winery owners, industry associations, city and county officials, and individuals. Of those commenting, 97% opposed the petition. These commenters stated that the petitioned area did not meet the regulatory requirements, and, if established, would threaten the California wine industry, jeopardize the viticultural area system, mislead consumers, and make the Estate-bottled claim less meaningful.

ATF Analysis of Petition and Comments

Prior to denying the California Coast viticultural area's establishment, ATF thoroughly reviewed all the information provided in the March 2000 petition and in the comments and documentation filed in response to Notice No. 903. The documentation and evidence provided by commenters and ATF's own research has established that the petitioned California Coast viticultural area fails to meet the regulatory requirements of 27 CFR, part 9, American Viticultural Areas.

Summary of the Reasons for Denial

The primary reasons for the denial of the California Coast viticultural area petition were:

• As commonly understood, the name “California Coast” applies to a longer coastal region than was included in the proposed area; and

• The significant climatic diversity found within the petitioned area due to its great north-south span.

Name Evidence

ATF has concluded that the California Coast viticultural area's petitioned boundary lines do not reflect the public's understanding of the “California Coast” name or meet the linguistic, geographic, or definition standards for viticultural areas or wine labeling purposes. ATF believes the term “California Coast” refers to the entire Pacific coastal area between Mexico and Oregon, and that no other use of the name, as related to a geographical area, can be considered accurate and true for viticultural area purposes.

Geographical Evidence

The geographical evidence presented in response to the Notice No. 903 shows that the proposed California Coast viticultural area is not a unified geographical area with viticultural features that distinguish it from surrounding areas. The area's proposed boundaries span almost 650 miles from north to south, and include shoreline, coastal plains, 5,000-foot high mountain ranges, and interior basins and valleys.

While the Pacific Ocean plays a dominate role in the California's coastal climate, the petitioned area's latitudinal span and differing ocean currents lead to significant climatic variations within it. Temperatures decrease, while rainfall and summer fog increase from south to north within the petitioned area. Two major ocean currents, the cold California Current flowing south from Alaska to Santa Barbara and the warmer Southern California Counter-Current flowing north from Mexico to Santa Barbara, are also responsible for the significantly different onshore coastal climates found within the petitioned area.

These factors are reflected in the petitioned area's differing climatic classifications. Experts classify the petitioned area's southern portion as a steppe or desert climate, while the central and northern portions are classified as a Mediterranean climate. ATF notes that even if the entire California coastline from Mexico to the Oregon border were included within a proposed viticultural area, such an area would likely have even greater climate diversity. Such a proposed area would, therefore, also not meet the regulatory criteria for an American viticultural area.

Supplemental Report Available

An 80-page report, “ATF Response to the California Coast Viticultural Area Petition,” containing a detailed analysis of the petition evidence, commenter information and documentation, under the requirements of 27 CFR 9.3(b)(1) through (3) for name evidence, boundary evidence, and geographical evidence, is available on the ATF Internet website at: http://www.atf.treas.gov/alcohol/rules/index.htm. Paper copies of the report are also available as described in the ADDRESSES section above.

Drafting Information

The principal author of this document is Nancy Sutton, Regulations Division, Bureau of Alcohol, Tobacco and Firearms. Michael D. Hoover provided editorial assistance.

Signed: July 29, 2002.
Bradley A. Buckles,
Director.

[FR Doc. 02-19829 Filed 8-6-02; 8:45 am]

BILLING CODE 4810-31-P